DEPARTMENT OF TRANSPORTATION

Notice of Final Federal Agency Actions on the North Houston Highway Improvement Project (NHHIP) in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for this project are being, or have been, carried-out by TxDOT pursuant to an assignment agreement executed by FHWA and TxDOT. These actions grant licenses, permits, and approvals for the North Houston Highway Improvement Project (NHHIP), from US 59/I-69 at Spur 527 to I-45 at Beltway 8 North, in Harris County, Texas.

DATES: By this notice, TxDOT is advising the public of final agency actions subject to 23 U.S.C. 139(l)(1). A claim seeking judicial review of TxDOT and Federal agency actions on the NHHIP will be barred unless the claim is filed on or before the deadline. For the NHHIP, the deadline is 150 days from the date of publication. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The NHHIP includes construction of roadway improvements to add four managed express (MaX) lanes on I-45 from Downtown Houston to Beltway 8 North, reroute I-45 to be parallel with I-10 on the north side of Downtown Houston and parallel to US 59/I-69 on the east side of Downtown Houston, realign sections of I-10 and US 59/I-69 in the Downtown area to eliminate the current roadway reverse curves that limit capacity, and depress US 59/I-69 between I-10 and Spur 527 south of Downtown to remove the problematic weaving sections. The NHHIP also includes reconstruction of mainlanes and frontage roads; addition of bicycle/pedestrian realms along the streets that cross the freeways, including a 15- to 17 foot-wide pedestrian realm that will create a buffer between the bicycle/pedestrian traffic and the vehicular traffic; addition of sidewalks along frontage roads; and addition of pass-through lanes on I-10 that will separate traffic desiring to go to Downtown from traffic destined to go through Downtown. The total project length is approximately 25.3 miles. The purpose of the NHHIP is to implement an integrated system of transportation improvements that would manage I-45 traffic congestion in the NHHIP area through added capacity, MaX lanes, options for SOV lanes, and improved operations; improve mobility on I-45 between US 59/I-69 and Beltway 8 North by accommodating projected population growth and latent demand in the project area; provide expanded transit and carpool opportunities; bring I-45, I-10, and US 59/I-69 up to current design standards to improve safety and operations; improve the capabilities of I-45 as an emergency evacuation route; improve stormwater drainage on I-45; and support the projected significant increase in travel on the regional highways in the Houston-Galveston area.

The actions by TxDOT and Federal agencies and the laws under which such actions were taken are described in the Final Environmental Impact Statement (FEIS), the Record of Decision (ROD) issued on February 3, 2021, and other documents in the TxDOT project file. The FEIS, ROD, and other documents in the TxDOT project file are available by contacting the TxDOT Houston District Office at TxDOT Houston District Office, Advanced Project Development Director, P.O. Box 1386, Houston, TX 77251, or by phone by calling (713) 802-5070. The FEIS and ROD can also be viewed and downloaded from the following website: www.ih45northandmore.com.

The environmental review, consultation, and other actions required by applicable Federal environmental laws for the NHHIP are being, or have been, carried-out by TxDOT pursuant to 23 U.S.C. 327 and a Memorandum of Understanding dated December 9, 2019, and executed by FHWA and TxDOT.

Notice is hereby given that TxDOT and Federal agencies have taken final agency actions by issuing licenses, permits, and approvals for the NHHIP in the State of Texas.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

Authority: 23 U.S.C. 139(l)(1).

Michael T. Leary,
Director, Planning and Program Development, Federal Highway Administration.

[FR Doc. 2021-02661 Filed 2-8-21; 8:45 am]

BILLING CODE 4910-22-P